DEPARTMENT OF VETERANS AFFAIRS

Joint Biomedical Laboratory Research and Development and Clinical Science Research and Development Services Scientific Merit Review Board, Notice of Meetings

The Department of Veterans Affairs (VA) gives notice under Public Law 92-463 (Federal Advisory Committee Act) that the panels of the Joint Biomedical Laboratory Research and Development and Clinical Science Research and Development Services Scientific Merit Review Board will meet from 8 a.m. to 5 p.m. on the dates indicated below:

Panel | Date(s) | Location
Surgery | May 22, 2013 | Hamilton Crowne Plaza.
Neurobiology—B | May 23, 2013 | Sheraton Crystal City Hotel.
Mental Health and Behavioral. Sciences—A | May 30, 2013 | Sheraton Crystal City Hotel.
Gastroenterology | May 30-31, 2013 | U.S. Access Board.
Pulmonary Medicine | May 30-31, 2013 | Sheraton Crystal City Hotel.
Neurobiology—A | May 31, 2013 | Ritz-Carlton, Pentagon City.
Cardiovascular Studies | June 3, 2013 | Ritz-Carlton, Pentagon City.
Cellular and Molecular Medicine | June 3, 2013 | Ritz-Carlton, Pentagon City.
Neurobiology—C | June 4, 2013 | Sheraton Crystal City Hotel.
Neurobiology—E | June 4, 2013 | VA Central Office.*
Endocrinology—B | June 4, 2013 | Sheraton Crystal City Hotel.
Mental Health and Behavioral. Sciences—B | June 6, 2013 | VA Central Office.*
Oncology—A | June 6, 2013 | United Way Worldwide.
Oncology—B | June 7, 2013 | United Way Worldwide.
Hematology | June 7, 2013 | Ritz-Carlton, Pentagon City.
Infectious Diseases—B | June 7, 2013 | U.S. Access Board.
Aging and Clinical Geriatrics | June 10, 2013 | VA Central Office.*
Endocrinology—A | June 10, 2013 | Ritz-Carlton, Pentagon City.
Epidemiology | June 11, 2013 | VA Central Office.*
Nephrology | June 11, 2013 | Sheraton Crystal City Hotel.
Neurobiology—D | June 11, 2013 | Sheraton Crystal City Hotel.
Immunology—A | June 12, 2013 | Sheraton Crystal City Hotel.
Infectious Diseases—A | June 12, 2013 | Sheraton Crystal City Hotel.
Clinical Trials | June 13-14, 2013 | VA Central Office.*
Clinical Application of Genetics | June 18, 2013 | Ritz-Carlton, Pentagon City.
Eligibility | July 15, 2013 | Ritz-Carlton, Pentagon City.
* Teleconference.
The addresses of the meeting sites are:
Hamilton Crowne Plaza, 14th & K Streets NW., Washington, DC.
Ritz-Carlton, Pentagon City, 1250 South Hayes Street, Arlington, VA.
Sheraton Crystal City Hotel, 1800 Jefferson Davis Highway, Arlington, VA.
U.S. Access Board, 1331 F Street NW., Suite 1000, Washington, DC.
United Way Worldwide, 701 N. Fairfax Street, Alexandria, VA.
VA Central Office, 131 M Street NE., Washington, DC.

The purpose of the Board is to provide advice on the scientific quality, budget, safety and mission relevance of investigator-initiated research proposals submitted for VA merit review consideration. Proposals submitted for review by the Board involve a wide range of medical specialties within the general areas of biomedical, behavioral and clinical science research.

The panel meetings will be open to the public for approximately one-half hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with title 5 U.S.C., 552b(c) (6) and (9)(B).

Those who plan to attend the general session or would like to obtain a copy of the minutes from the panel meetings and rosters of the members of the panels should contact Alex Chiu, Ph.D., Manager, Merit Review Program (10P9B), Department of Veterans Affairs, 810 Vermont Avenue NW., Washington, DC 20420, at (202) 443-5672 or email at alex.chiu@va.gov.

By Direction of the Secretary.
Dated: April 10, 2013.
Vivian Drake,
Committee Management Officer.

[FR Doc. 2013-08836 Filed 4-15-13; 8:45 am]

BILLING CODE 8320-01-P